DEPARTMENT OF ENERGY

Environmental Management Site-Specific Advisory Board, Northern New Mexico

AGENCY: Office of Environmental Management, Department of Energy.

ACTION: Notice of open meeting.

SUMMARY: This notice announces a meeting of the Environmental Management Site-Specific Advisory Board (EM SSAB), Northern New Mexico. The Federal Advisory Committee Act requires that public notice of this meeting be announced in the Federal Register.

DATES: Wednesday, March 18, 2020; 1:00 p.m.-5:15 p.m.

ADDRESSES: The Lodge at Santa Fe, 720 North St. Francis Drive, Santa Fe, New Mexico 87501.

FOR FURTHER INFORMATION CONTACT: Menice Santistevan, Northern New Mexico Citizens' Advisory Board (NNMCAB), 94 Cities of Gold Road, Santa Fe, NM 87506. Phone (505) 995-0393; Fax (505) 989-1752 or Email: Menice.Santistevan@em.doe.gov.

SUPPLEMENTARY INFORMATION:

Purpose of the Board: The purpose of the Board is to make recommendations to DOE-EM and site management in the areas of environmental restoration, waste management, and related activities.

Tentative Agenda

• Call to Order

• Welcome and Introductions

• Approval of Agenda

• Approval of February 26, 2020 Meeting Minutes

• Old Business

○ Report from NNMCAB Chair

○ Other Items

• New Business

• Update from Secretary of New Mexico Environment Department

• Break

• Update on Waste Isolation Pilot Plant

• Public Comment Period

• Update from EM Los Alamos Field Office

• Update from NNMCAB Deputy Designated Federal Officer and Executive Director

• Wrap-Up Comments from NNMCAB Members

• Adjourn

Public Participation: The meeting is open to the public. The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or telephone number listed above. Minutes and other Board documents are on the internet at: https://www.energy.gov/em/nnmcab/meeting-materials.

Signed in Washington, DC on February 21, 2020.
LaTanya Butler,
Deputy Committee Management Officer.

[FR Doc. 2020-03853 Filed 2-25-20; 8:45 am]

BILLING CODE 6450-01-P